DEPARTMENT OF AGRICULTURE

Natural Resources Conservation Service

South River Watershed Structure No. 4: Madison County, GA

AGENCY: Natural Resources Conservation Service, Agriculture.

ACTION: Notice of Availability of a Finding of No Significant Impact.

SUMMARY: Pursuant to Section 102(2)(C) of the National Environmental Policy Act of 1969, the Council on Environmental Quality Regulations (40 CFR Part 1500); and the Natural Resources Conservation Service Regulations (7 CFR Part 650); the Natural Resources Conservation Service, U.S. Department of Agriculture, gives notice that an environmental impact statement is not being prepared for the South River Watershed Structure No. 4, Madison County, Georgia.

FOR FURTHER INFORMATION CONTACT: Cran Upshaw, Economist, Federal Building, 355 East Hancock Avenue, Athens, Georgia 30601, Telephone (706) 546-2277, e-mail cran.upshaw@ga.usda.gov.

SUPPLEMENTARY INFORMATION: The Environmental Assessment of this Federally assisted action indicates that the project will not cause significant local, regional, or national impacts on the environment. As a result of these findings, James E. Tillman, Sr., State Conservationist, has determined that the preparation and review of an environmental impact statement is not needed for this project.

The project purpose is continued flood prevention. The planned works of improvement include upgrading an existing floodwater retarding structure.

The Notice of a Finding of No Significant Impact (FONSI) has been forwarded to the U.S. Environmental Protection Agency and to various Federal, State, and local agencies and interested parties. A limited number of the FONSI are available to fill single copy requests at the above address. Basic data developed during the environmental assessment are on file and may be reviewed by contacting Cran Upshaw at the above number.

No administrative action on implementation of the proposal will be taken until 30 days after the date of this publication in the Federal Register.

Signed in Athens, Georgia, on July 2, 2009.
James E. Tillman, Sr.,
State Conservationist.

(This activity is listed in the Catalog of Federal Domestic Assistance under 10.916, Watershed Protection and Flood Prevention, and is subject to the provisions of Executive Order 12372, which requires inter-government consultation with State and local officials).

Finding of No Significant Impact for South River Watershed Structure No. 4, Madison County, Georgia, July 3, 2009

Introduction

The South River Watershed is a Federally assisted action authorized for planning under Public Law 106-472, the Watershed Rehabilitation Act, which amends Public Law 83-566, the Watershed Protection and Flood Prevention Act. An environmental assessment was undertaken in conjunction with development of the watershed plan. This assessment was conducted in consultation with local, State, and Federal agencies as well as with interested organizations and individuals. Data developed during the assessment are available for public review at the following location: U.S. Department of Agriculture, Natural Resources Conservation Service, 355 East Hancock Avenue, Athens, Georgia 30601.

Recommended Action

This document describes a plan for upgrading an existing floodwater retarding structure, South River Watershed Structure No. 4 to meet current dam safety criteria in Georgia. The plan calls for the construction of a roller compacted concrete spillway on an existing dam. Works of improvement will be accomplished by providing financial and technical assistance through an eligible local sponsor.

The principal project measures are to:

1. Construction of a roller compacted concrete spillway. This construction is designed to bring the existing dam into compliance with current dam safety criteria in Georgia.

2. The measures will be planned and installed by developing a contract with the current operator of the dam.

Effects of Recommended Action

Construction of a roller compacted concrete spillway will bring South River Watershed Structure No. 4 into compliance with current dam safety criteria. This will essentially eliminate the risk to loss of life for individuals in 2 homes and 5 roads downstream. Additional effects will include continued protection against flooding, continued water quality benefits, continued fishing activities, continued recreational opportunities, protected land values, protected road and utility networks, and reduced maintenance costs for public infrastructure.

Wildlife habitat will not be disturbed during installation activities. No wetlands, wildlife habitat, fisheries, prime farmland, or cultural resources will be destroyed or threatened by this project. Some 37 acres of wetland and wetland type wildlife habitat will be preserved. Fishery habitats will also be maintained.

No endangered or threatened plant or animal species will be adversely affected by the project.

There are no wilderness areas in the watershed.

Alternatives

Eight alternative plans of action were considered in project planning. No significant adverse environmental impacts are anticipated from installation of the selected alternative. Also, the planned action is the most practical, complete, and acceptable means of protecting life and property of downstream residents.

Consultation—Public Participation

Original sponsoring organizations include the Georgia Soil and Water Conservation Commission, Broad River Soil and Water Conservation District and Madison County. At the initiation of the planning process, meetings were held with representatives of the original sponsoring organizations to ascertain their interest and concerns regarding the South River Watershed. The Georgia Soil and Water Conservation Commission agreed to serve as “lead sponsor” being responsible for leading the planning process with assistance from NRCS. As lead sponsor they also agreed to provide non-Federal cost-share, property rights, operation and maintenance, and public participation during, and beyond, the planning process.

An Interdisciplinary Planning Team provided for the “technical” administration of this project. Technical administration includes tasks pursuant to the NRCS nine-step planning process, and planning procedures outlined in the NRCS-National Planning Procedures Handbook. Examples of tasks completed by the Planning Team include, but are not limited to, Preliminary Investigations, Hydrologic Analysis, Reservoir Sedimentation Surveys, Economic Analysis, Formulating and Evaluating Alternatives, and Writing the Watershed Plan—Environmental Assessment. Data collected from partner agencies, databases, landowners, and others throughout the entire planning process, were presented at the public meeting on May 27, 2009. Informal discussions amongst planning team members, partner agencies, and landowners were conducted throughout the entire planning period.

Public Participation

A public meeting was held on May 27, 2009 to explain the Watershed Rehabilitation Program and to scope resource problems, issues, and concerns of local residents associated with the project area. Potential alternative solutions to bring South River No. 4 into compliance with current dam safety criteria were also presented. Through a voting process, eleven meeting participants heard summaries of planning accomplishments to date provided input on issues and concerns to be considered in the planning process, were made aware of results from the reservoir sedimentation survey, and identified which planning alternative (i.e. No Action, Decommission, Structural, Non-Structural) was most desirable.

Conclusion

The Environmental Assessment summarized above indicates that this Federal action will not cause significant adverse local, regional, or national impacts on the environment. Therefore, based on the above findings, I have determined that an environmental impact statement for the recommended plan of action on South River Watershed Structure No. 4 is not required.

[FR Doc. E9-16801 Filed 7-14-09; 8:45 am]

BILLING CODE 3410-16-P